DEPARTMENT OF COMMERCE

National Oceanic and Atmospheric Administration

RIN 0648-XF475

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Coonamessett Farm Foundation to conduct a scallop survey contains all of the required information and warrants further consideration.

Regulations under the Magnuson-Stevens Fishery Conservation and Management Act require publication of this notice intended to provide interested parties the opportunity to comment on applications for proposed Exempted Fishing Permits.

DATES: Comments must be received on or before June 29, 2017.

ADDRESSES: You may submit written comments by any of the following methods:

• Email: nmfs.gar.efp@noaa.gov. Include in the subject line “CFF NGOM Survey EFP.”

• Mail: John K. Bullard, Regional Administrator, NMFS, Greater Atlantic Regional Fisheries Office, 55 Great Republic Drive, Gloucester, MA 01930. Mark the outside of the envelope “Comments on CFF NGOM Survey EFP.”

FOR FURTHER INFORMATION CONTACT: Shannah Jaburek, Fisheries Management Specialist, 978-282-8456.

SUPPLEMENTARY INFORMATION: The Coonamessett Farm Foundation submitted a complete application on May 23, 2017, to conduct an optical and dredge survey in the Northern Gulf of Maine (NGOM) Scallop Management Area. The project titled “An Optical Assessment of Sea Scallop Abundance and Distribution in Select Areas of the Northern Gulf of Maine Scallop Management Area” would be funded through the Scallop Research Set-Aside Program. The primary survey instrument would be the HabCam imaging system, consisting of a camera that continuously takes photos and a side scanning sonar, that would be towed approximately 2.5 meters above the ocean floor. A scallop survey dredge would also be deployed to enable collection of biological information. The vessel would be exempt from the Atlantic sea scallop days-at-sea (DAS) allocations at 50 CFR 648.53(b); NGOM management program requirements at § 648.62; crew size restrictions at § 648.51(c); dredge gear restrictions at § 648.51(b); and observer program requirements at § 648.11(g). The vessel would also be temporarily exempt from possession limits and minimum size requirements specified in 50 CFR part 648, subparts B and D through O, for biological sampling purposes only. These exemptions would support an abundance survey of the NGOM Scallop Management Area.

The primary survey instrument will be the HabCam imaging system, but a scallop survey dredge would be deployed to enable collection of biological information. One vessel would conduct the survey in early July 2017 over the course of four days-at-sea. Researchers would conduct 3 dredge tows per day for a maximum of 12 tows using the NMFS survey dredge. The survey dredge is 8 feet (2.4 m) in width equipped with 2-inch (5.1-cm) rings, 4-inch (10.2-cm) diamond twine top, and a 1.5-inch (3.8-cm) diamond mesh liner. All tows would be conducted at speeds between 4.8 to 5.1 knots (2.5 to 2.6 m/s) for 10-15 minutes. The dredge tow locations would be determined during the optical survey using the HabCam system based on scallop abundance. This survey would provide scallop biomass estimates that would support scallop resource management in the NGOM Management Area. The survey will occur in parts of Stellwagen Bank and Jeffrey's Ledge that are open to commercial scallop fishing. No dredge tows will occur in a habitat closed area.

In addition to collecting Habcam image data, scientific personnel will record detailed catch information on scallops, finfish, and invertebrates from dredge tows. No fish or scallops will be retained for commercial purposes, but frozen samples of scallop meats may be retained. All bycatch would be returned to the sea as soon as practicable following data collection. These exemptions will allow CFF to conduct experimental dredge towing without being charged DAS, as well as deploy gear that is not consistent with current scallop regulations. Participating vessels need crew size waivers to accommodate science personnel. Exemption from possession limit and minimum sizes would ensure the vessel is not in conflict with possession regulations while collecting catch data. The project would also be exempt from the sea scallop observer program requirements because activities conducted on the trip are not consistent with normal fishing operations.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 9, 2017.
Margo B. Schulze-Haugen,
Acting Deputy Director, Office of Sustainable Fisheries, National Marine Fisheries Service.

[FR Doc. 2017-12317 Filed 6-13-17; 8:45 am]

BILLING CODE 3510-22-P